DEPARTMENT OF THE INTERIOR

Bureau of Land Management

[LLNV930000 L5101000.ER0000 LVRWF09F8570 241A; 13-08807; MO#4500049868; TAS: 14X5017]

Notice of Intent To Prepare a Draft Supplemental Environmental Impact Statement for the Ruby Pipeline Project, NV

AGENCY: Bureau of Land Management, Interior.

ACTION: Notice of Intent.

SUMMARY: As directed by the United States Court of Appeals for the Ninth Circuit, the Bureau of Land Management (BLM) is preparing a Draft Supplemental Environmental Impact Statement (EIS) for the Ruby Pipeline Project to respond to the court's direction and provide a revised cumulative-effects analysis under the National Environmental Policy Act (NEPA).

FOR FURTHER INFORMATION CONTACT: Mark Mackiewicz, Project Manager, at 435-636-3616, Bureau of Land Management Price Field Office, 125 South 600 West, Price, Utah 84501; email mmackiew@blm.gov.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Federal Energy Regulatory Commission (FERC) is responsible for authorizing construction and operation of interstate natural gas pipelines. The FERC issues Certificates of Public Convenience and Necessity (Certificate) for natural gas pipelines under Section 7 of the Natural Gas Act of 1938 (NGA), as amended, and authorizes construction and siting of facilities for the import or export of natural gas under Section 3 of the NGA. The FERC also authorizes construction and operation of natural gas pipelines per the Natural Gas Policy Act of 1978 (15 U.S.C. 3341-3348).

Accordingly, the FERC served as the Lead Agency for Ruby Pipeline, LLC.'s (Ruby) application for the Ruby Pipeline Project. The FERC used the Final EIS it prepared according to the NEPA (January 28, 2010) to issue its Certificate for the Ruby Pipeline Project on April 5, 2010. The Certificate authorized Ruby to construct an approximately 678 mile, 42-inch interstate natural gas pipeline that crosses 368 miles of Federal land beginning near Opal, Wyoming, extending through northern Utah and northern Nevada, and terminating near Malin, Oregon.

The BLM has primary responsibility for issuing right-of-way (ROW) grants and temporary use permits for natural gas pipelines across most Federal lands pursuant to Section 28 of the Mineral Leasing Act of 1920 (MLA), as amended (30 U.S.C. 185 et seq.). Ruby applied to the BLM for a ROW grant for the Ruby Pipeline Project on December 3, 2007. The Federal lands crossed or used as access for the project include lands managed by the BLM; Bureau of Reclamation (Reclamation); and the United States Department of Agriculture, Forest Service (USFS), specifically the Fremont-Winema National Forests, the Uinta-Wasatch-Cache National Forest, and the Modoc National Forest; and the United States Fish and Wildlife Service, specifically the Sheldon National Wildlife Refuge. Based on the Final EIS issued by the FERC, the BLM issued a Ruby Pipeline Project Record of Decision (ROD) and ROW grant for the use of lands under the administration of the BLM, Reclamation and the USFS on July 7, 2010.

The project has been constructed and is currently in operation. However, the BLM Ruby Pipeline Project ROD was challenged, and on January 4, 2013, the Ninth Circuit Court of Appeals found that the Ruby Pipeline Final EIS does not provide sufficient quantified or detailed data about the cumulative loss of sagebrush steppe vegetation and habitat. The court remanded the 2010 ROD to the BLM to undertake a revised cumulative effects analysis (Center for Biological Diversity, et al. v. U.S. Bureau of Land Mgmt, et al.).

The BLM is preparing a Draft Supplemental EIS to correct the deficiencies identified by the court. The Draft Supplemental EIS will include supplemental information about the original and present condition of the sagebrush steppe habitat and analyze the cumulative impacts of the project based on the supplemental information.

The BLM will follow the process generally described in 40 CFR 1502.9, which requires preparation of a draft and final Supplemental EIS with the exception of a formal scoping period. A 45-day public comment period will be provided and will be announced in a Notice of Availability for the Draft Supplemental EIS.

If appropriate, the BLM will utilize and coordinate the NEPA commenting process to satisfy the public involvement process for Section 106 of the National Historic Preservation Act (16 U.S.C. 470f) as provided for in 36 CFR 800.2(d)(3) and Secretarial Order 3317. Native American tribal consultations will be conducted in accordance with policy, and tribal concerns will be given due consideration, including impacts on Indian trust assets. In accordance with 40 CFR 1502.9(c)(4) formal scoping will not be conducted.

Federal, State, and local agencies with expertise regarding the sagebrush-steppe ecosystem or ROW concurrence authority may request cooperating agency status.

Authority: 40 CFR 1502.9, 43 CFR part 2880.

Amy Lueders,
Nevada State Director.

[FR Doc. 2013-10120 Filed 4-29-13; 8:45 am]

BILLING CODE 4310-HC-P